DEPARTMENT OF TRANSPORTATION

Federal Railroad Administration

[Docket Number FRA-2000-7137]

Petition for Waiver of Compliance

In accordance with part 211 of Title 49 Code of Federal Regulations (CFR), this document provides the public notice that by a document dated February 24, 2016, San Diego Trolley Incorporated (SDTI) petitioned the Federal Railroad Administration (FRA) for a supplemental waiver of compliance from certain additional provisions of the Federal railroad safety regulations contained in various parts of Title 49 of the CFR. FRA assigned the petition to Docket Number FRA-2000-7137.

SDTI seeks a 5-year extension of its existing waiver, as well as a waiver of additional regulations, for certain portions of its light rail transit operations which employ temporal separation in order to safely share track with the general railroad system's San Diego and Imperial Valley Railroad. Contiguous to the shared trackage are portions with limited connections, which include a small shared corridor with BNSF Railway freight service and Coaster commuter train service (Coaster also shares a storage yard with SDTI). FRA granted SDTI its initial waiver on January 19, 2001, which was extended for 5 years on September 11, 2006, to include minor operational changes. The waiver was most recently extended for 5 years on June 22, 2011, to include updating CFR section changes made since 2006. In 2012, SDTI received a separate waiver from FRA to operate its SD100 and S70 rolling stock at speeds that generate cant deficiency not exceeding 6 inches on its Orange Line joint use trackage (see Docket Number FRA-2012-0088). To simplify matters, SDTI now requests that the relief in both dockets be baselined into Docket Number FRA-2000-7137.

After consulting with FRA during an onsite meeting on March 24, 2016, SDTI is requesting additional relief from the following regulatory sections: 49 CFR part 214, subpart C, Roadway Worker Protection; part 228, subpart F, Substantive Hours of Service Requirements for Train Employees Engaged in Commuter or Intercity Rail Passenger Transportation; and part 242, Qualification and Certification of Conductors.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 9, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-09444 Filed 4-22-16; 8:45 am]

BILLING CODE 4910-06-P